ENVIRONMENTAL PROTECTION AGENCY

40 CFR Part 300

[EPA-HQ-SFUND-1994-0009; FRL-9995-91-Region 1]

National Oil and Hazardous Substances Pollution Contingency Plan; National Priorities List: Partial Deletion of the U.S. Coast Guard (USCG) Buoy Depot of the South Weymouth Naval Air Station Superfund Site

AGENCY: Environmental Protection Agency (EPA).

ACTION: Proposed rule; notice of intent.

SUMMARY: The Environmental Protection Agency (EPA) Region 1 is publishing a Notice of Intent for Partial Deletion of the U.S. Coast Guard (USCG) Buoy Depot, the South Weymouth Naval Air Station (NAS) Superfund Site (the Site) (MA2170022022) in Weymouth, Massachusetts, from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). This partial deletion is being published by EPA with the concurrence of the Commonwealth of Massachusetts, through the Massachusetts Department of Environmental Protection (MassDEP), because EPA has determined that all appropriate response actions at the identified parcel under CERCLA have been completed. However, this partial deletion does not preclude future actions under Superfund.

This partial deletion pertains to the USCG Buoy Depot, Operable Unit 10, located at 65 Trotter Road, South Weymouth, Massachusetts. The remaining Operable Units of the South Weymouth NAS will remain on the NPL and are not being considered for deletion as part of this action.

DATES: Comments must be received by July 31, 2019.

ADDRESSES: Submit your comments, identified by Docket ID no. EPA-HQ-SFUND-1994-0009, by one of the following methods:

• http://www.regulations.gov. Follow on-line instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit.

• Email: lim.robert@epa.gov.

• Mail: Robert Lim, U.S. EPA Remedial Project Manager, 5 Post Office Square, Suite 100 (Mail code: 07-3), Boston, MA 02109-3912.

• Hand delivery: Robert Lim, U.S. EPA Remedial Project Manager, 5 Post Office Square, Suite 100 (Mail code 07-3), Boston, MA 02109-3912. Such deliveries are only accepted during the Docket's normal hours of operation, and special arrangements should be made for deliveries of boxed information.

Instructions: Direct your comments to Docket ID no. EPA-HQ-SFUND-1994-0009. EPA's policy is that all comments received will be included in the public docket without change and may be made available online at http://www.regulations.gov, including any personal information provided, unless the comment includes information claimed to be Confidential Business Information (CBI) or other information whose disclosure is restricted by statute. Do not submit information that you consider to be CBI, or otherwise protected, through http://www.regulations.gov. or email. The http://www.regulations.gov. Website is an “anonymous access” system, which means EPA will not know your identity or contact information unless you provide it in the body of your comment. If you send an email comment directly to EPA without going through http://www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statue. Certain other material, such as copyrighted material, will be publicly available only in hard copy. Publicly available docket materials are available either electronically in http://www.regulations.gov, or on disk or physical copy at:

EPA Region 1 Records Center, 5 Post Office Square, Suite 100, 1st Floor, Boston, MA 02109, Phone: 1-617-918-1440. Hours: Mon-Fri 8 a.m. to 5 p.m., excluding federal holidays

Navy Caretaker Site Office, 223 Shea Memorial Drive, South Weymouth, MA 02190 (Records may be viewed by appointment only. Contact Mr. David Barney at 781-626-0105 or David.a.barney@navy.mil to schedule an appointment)

Tufts Library, 46 Broad Street, Weymouth, MA 02188

FOR FURTHER INFORMATION CONTACT:

Robert Lim, Remedial Project Manager, U.S. Environmental Protection Agency, Region 1, 5 Post Office Square, Suite 100 (Mail code 07-3), Boston, MA 02109-3912, (617) 918-1392, email: lim.robert@epa.gov.

SUPPLEMENTARY INFORMATION:

Table of Contents

I. Introduction

II. NPL Deletion Criteria

III. Partial Deletion Procedures

IV. Basis for Site Partial Deletion

I. Introduction

EPA Region 1 is publishing this Notice of Intent for Partial Deletion of the USCG Buoy Depot, designated Operable Unit 10 (OU10) within the South Weymouth Naval Air Station (NAS) Superfund Site (see Figure 1), from the NPL. This partial deletion pertains to all site media, including soil and groundwater associated with USCG Buoy Depot, which consists of approximately five acres and includes the following properties:

4.77 acres of property owned by the United States of America (United States Coast Guard) described in Quitclaim Deed dated October 30, 1941 and recorded in book 6561, Page 513, also identified as Lot 650-1 in Tax Map 58. Approximately 0.20 acres of property owned by the United States of America (United States Navy) described in Quitclaim Deed dated January 1, 1900, also identified as Plat 597-152 in Tax Map 58. Approximately 0.04 acres of property owned by LSTAR Southfield, LLC, described in Quitclaim Deed dated July 2, 2015 and recorded in book 33279, Page 51, also identified as Plat 597-138 in Tax Map 58. Approximately 0.11 acres of property owned by LSTAR Southfield, LLC, described in Quitclaim Deed dated July 2, 2015 and recorded in book 33279, Page 51, also identified as Plat 597-137 in Tax Map 58.

The properties are further depicted on Figure 2 of the “Remedial Action Completion Report for the U.S. Coast Guard Industrial Production Detachment, South Weymouth, MA” dated October 16, 2017 and will be referred to hereafter as “the property proposed for deletion”. All tax map references are based on the Town of Weymouth 2015 Tax Maps.

The NPL constitutes Appendix B of the NCP (40 CFR part 300), which EPA promulgated pursuant to Section 105 of the CERCLA. EPA maintains the NPL as the list of sites that appear to present a significant risk to public health, welfare, or the environment. Sites on the NPL may be the subject of remedial actions financed by the Hazardous Substance Superfund (Fund). This partial deletion of the USCG Buoy Depot within the Site is proposed in accordance with 40 CFR 300.425(e) and is consistent with the “Notice of Policy Change: Partial Deletion of Sites Listed on the National Priorities List” 60 FR 55466 (Nov. 1, 1995). As described in 300.425(e)(3) of the NCP, a portion of a site deleted from the NPL remains eligible for Fund financed remedial action if future conditions warrant such actions.

EPA will accept comments on the proposal to partially delete this site for thirty (30) days after publication of this document in the Federal Register.

Section II of this document explains the criteria for deleting sites from the NPL. Section III discusses procedures that EPA is using for this action. Section IV discusses the property proposed for deletion and demonstrates how it meets the deletion criteria. Section V discusses EPA's proposal to delete the Site parcel from the NPL.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

III. Partial Deletion Procedures

The following procedures apply to the partial deletion of the USCG Buoy Depot from the Site:

(1) EPA has consulted with the Commonwealth of Massachusetts prior to developing this Notice of Intent for Partial Deletion.

(2) EPA has provided the Commonwealth 30 working days for review of this notice prior to its publication.

(3) In accordance with the criteria discussed above, EPA has determined that no further response is appropriate.

(4) The Commonwealth, through MassDEP by a letter dated April 19, 2019 has concurred on the proposal for partial deletion of the USCG Buoy Depot from the Site.

(5) Concurrently, with the publication of this Notice of Intent for Partial Deletion in the Federal Register, a notice of the availability of the Notice of Intent for Partial Deletion is being published in the Patriot Ledger, a major local newspaper. The newspaper notice announces the 30-day public comment period concerning the Notice of Intent for Partial Deletion of the USCG Buoy Depot from the NPL.

(6) The EPA placed copies of documents supporting the partial deletion in the deletion docket and made these items available for public inspection and copying at the Site information repositories identified above.

If comments are received within the 30-day public comment period on this partial deletion action, EPA will evaluate and respond accordingly to the comments before making a final decision to delete the USCG Buoy Depot. If necessary, EPA will prepare a Responsiveness Summary to address any significant public comments received. After the public comment period, if EPA determines it is still appropriate to delete the USCG Buoy Depot of the South Weymouth Naval Air Station (NAS) Superfund Site, the EPA Regional Administrator will publish a final Notice of Partial Deletion in the Federal Register. Public notices, public submissions and copies of the Responsiveness Summary, if prepared, will be made available to interested parties and included in the site information repositories listed above.

Deletion of a portion of a site from the NPL does not in any way alter EPA's right to take enforcement actions, as appropriate. The NPL is designed primarily for informational purposes and to assist EPA management. Section 300.425(e)(3) of the NCP states that the deletion of a site from the NPL does not preclude eligibility for further response actions, should future conditions warrant such actions.

IV. Basis for Site Partial Deletion

The following information provides EPA's rationale for deleting the USCG Buoy Depot of the South Weymouth NAS Site from the NPL:

Site Location

The USCG Buoy Depot is located on the South Weymouth NAS which operated from 1942 to 1997, and is located approximately 15 miles southeast of Boston, Massachusetts, in Norfolk County in the Town of Weymouth. As of the 2010 census, Weymouth has a population of 55,643.

Site Description

The USCG Buoy Depot, now currently operating as the USCG Industrial Production Detachment South Weymouth (IPDSW), is the USCG's principal facility in the northeast for storing, cleaning, repairing, and painting navigational buoys. The facility is owned and operated by the USCG.¹ Within the IPDSW there is a two-story, steel and concrete block building occupying approximately 20,000 square feet on the northwestern portion of the property. Asphalt and concrete paved driveways surround the building. Most of the property is a dirt and gravel-covered buoy storage area to the south and east of the building. A drainage swale exists along the southern fence line of the property. The swale and a portion of a wetland on an adjacent property were impacted by past operations and are considered part of the site.

¹ OU10 does include some limited areas of Navy and private property immediately adjacent to the USCG facility where contamination had historically migrated off the USCG facility as previously noted.

Operational History

On March 1, 1972, the USCG leased the property from the Navy which contains the Buoy Depot. Prior to development, the property was an undeveloped property of the South Weymouth NAS which closed in 1997 under the Defense Base Realignment and Closure Act of 1990 (BRAC). In October 2000, the Buoy Depot property was transferred to the USCG from the Navy through a Federal Agency to Federal Agency Transfer. Upon transfer of the property from the Navy, the USCG also assumed responsibility for the CERCLA investigation of Buoy Depot.

The USCG Buoy Depot was constructed in 1973 and is the USCG's principal facility in the northeast for the storing, cleaning, repairing, and painting navigational buoys. Its operations have included buoy rehabilitation (e.g., shot blasting to remove old paint, welding, painting, electrical wiring); minor vehicle and equipment maintenance; waste generation (steel shot blast residue, waste oils, paint-related waste) and fuel storage; warehousing; outdoor scrap metal storage; and administrative use.

BILLING CODE 6560-50-P

BILLING CODE 6560-50-C

The USCG stopped buying lead-based paint and primers for buoys in 1986. Because buoys are refurbished every six-to-eight years, all the USCG buoys have been cycled through the system and repainted with non-lead based paint.

Conditions That Led to Placement on National Priorities List (NPL)

In March 1988, the Navy conducted a Preliminary Assessment (PA) under the Installation Restoration Program. The PA consisted of a records search, site visit, and interviews. The PA Report identified five potential hazardous waste sites based on past practices: Site 1, the West Gate Landfill; Site 2, the RDA Site; Site 3, the Small Landfill (SL); Site 4, the Former Fire Training Area (FFTA); and Site 5, the Tile Leach Field (TLF).

The Navy completed a Site Inspection (SI) in December 1991. The SI investigated the five potential sites identified in the PA as well as three additional sites the Navy added to the program: Site 6, the Fuel Farm; Site 7, the former Sewer Treatment Plant (STP); and Site 8, the Abandoned Bladder Tank Fuel Storage Area. The SI included site walkovers; geophysical surveys; installation of monitoring wells; and analysis of soil, sediment, surface water, and groundwater samples.

The USCG Buoy Depot was part of the NPL listing for South Weymouth NAS due to contamination from facility operations that was present in the surface soil of the storage area and in an adjacent drainage swale and wetland.

National Priorities List Designation

The Site was proposed to the NPL on 6/23/1993 (58 FR 34018) and added to the NPL on 5/31/1994 (59 FR 27989). The listing included the USCG Buoy Depot. The CERCLIS ID for South Weymouth NAS is MA2170022022, and for USCG Buoy Depot is MA0690330758.

Ongoing Redevelopment

While the former South Weymouth NAS (currently referred to as “Union Point”) undergoes redevelopment due to Base Realignment and Closure process with the Southfield Redevelopment Authority implementing plans for commercial, residential, and mixed uses, along with recreational areas and open space, the USCG Buoy Depot, currently named the USCG Industrial Production Detachment South Weymouth (IPDSW), continues to operate as the USCG's principal facility in the northeast for storing, cleaning, repairing, and painting navigational buoys.

Operable Units at the Site

Beginning in 1995, remedial investigations at South Weymouth NAS have identified 27 operable units. The USCG Buoy Depot has been designated as Operable Unit 10 (OU10) and is described as follows:

OU10—Former U.S. Coast Guard Buoy Depot

Beginning in 1972, former Buoy Depot operations have included buoy rehabilitation (e.g., “shot blasting” to remove old paint, welding, painting, and electrical wiring), minor vehicle and equipment maintenance, waste generation (steel shot blast residue, waste oils, paint-related waste) and fuel storage, warehousing, outdoor scrap metal storage, and administrative use. Most of the buoys are constructed of steel and range in size from three feet (ft) to greater than 30 ft in length and can weigh up to 20,000 pounds. Old or damaged buoys that are beyond repair are stored at the current IPDSW pending sale as scrap metal.

As a result of prior facility operations (i.e., buoy storage, refurbishment, and scrapping), lead and paint chips were present in the surface soil of the buoy storage area. Due to stormwater runoff, surface soils in the downgradient and off-site drainage swale and wetland area were impacted with metals, primarily lead, from the former Buoy Depot. The USCG ceased purchasing lead-based paint (LBP) and primers for buoys in 1986. The USCG was required to deplete this existing paint inventory by 1988. Buoys are refurbished every six-to-eight years. Therefore, most of the USCG's buoys that are now received at the current IPDSW have been cycled through the system and repainted with non-LBP multiple times.

Remedial Investigation and Feasibility Study (RI/FS)

The RI investigated three areas of concern at USCG Buoy Depot in 2001. It concluded that no further action was required for areas related to the septic system tank, piping, and leach field. The two other areas were addressed through removal actions in 1999, 2003, and from 2004 to 2005.

In 1999, a time-critical removal action addressed lead-contaminated soil near a former dust collection system by removing 26 cubic yards of soil. In 2003, a non-time critical removal action addressed a floor drain system by removing 100 cubic yards of sludge piping and impacted soil. From 2004 to 2005, also as part of the non-time critical removal action beginning in 2003, the USCG excavated approximately 165 cubic yards of metals-contaminated soil from the offsite drainage swale and wetland area.

The Human Health and Ecological Risk Assessments determined that lead in soil and sediment was the only contaminant of concern (COC) for which significant risks were identified in both adult and child lead modelling, and in ecological receptors. Groundwater quality was consistent with background conditions and, therefore, no groundwater risks were identified.

Selected Remedy

A Record of Decision (ROD) was finalized in September 2006 and selected land use controls (institutional and engineering controls), long-term monitoring, and five-year reviews. This decision also took into consideration the completion of removal actions prior to finalization of the ROD.

The Response Action Objectives in the ROD included both Removal Action Objectives and Remedial Action Objectives (RAO). The following goals were developed during the EE/CA for the non-time critical removal action completed in 2005:

• Prevention, to the extent practicable, of direct contact with and ingestion of surficial soil that presents unacceptable risks to human health and/or ecological receptors (i.e., the soil of the swale and wetlands)

• Prevention of potential future impacts to groundwater beneath the site through removal of impacted soil and sludge-associated with existing floor drains beneath the site building

• Prevent ongoing migration of metals (primarily lead) from the buoy storage area to the adjacent drainage ~wale and the downstream wetland, and prevention of future migration to the extent possible.

The Feasibility Study presented the following response action objectives for the buoy storage area:

• Prevent future human (residential) exposure to lead and potential LBP chips in soil of the buoy storage area

• Prevent COCs in on-site soil from migrating off the Buoy Depot property

The ROD consisted of the following elements:

• No Further Action for Area of Concern (AOC) 1 (i.e., building and adjacent areas to the south);

• No Action for AOC 2 (i.e., septic system tank, piping, and leach field);

• Implement LUCs for AOC 3 (area where buoy, equipment and scrap metal were stored) of the current USCG IPDSW property that include (1) Institutional Controls to prohibit current and future non-commercial/industrial uses of the current IPDSW property, and (2) Engineering Controls to prevent the migration of contaminated soil from the buoy storage area.;

• Conduct Long-Term Monitoring of the surface soil in the stormwater drainage swale and downstream wetland area on adjacent property controlled by LSTAR Management, LLC and the Navy to ensure the long-term effectiveness of the remedy for protecting human health and the environment; and

• Five-Year Reviews for AOC 3 (i.e., buoy, equipment, and scrap metal storage area).

The USCG attempted to reduce the potential for recontamination of the swale and wetland through the construction of a stormwater management system, which reduced the transport of soil particles and paint chips from the buoy storage area. The surface soil was not remediated under the ROD because it did not pose an unacceptable risk for commercial/industrial use. After finalization of the ROD, the results of the long-term monitoring program determined a need for additional action which is discussed below.

The USCG completed the first statutory Five-Year Review of the USCG Buoy Depot property in December 2011 which identified increasing concentrations of metals in the swale and wetland area downstream of the stormwater management system. The increasing trend in metals concentrations suggested that the stormwater management system was not containing the contaminants known to exist in surface soils in the buoy storage area. The Five-Year Review recommended continued O&M activities associated with the stormwater management system and continued monitoring to further evaluate contaminant concentration trends.

Based on the increasing concentration trends found in the Five-Year Review, the USCG conducted a study to evaluate the effectiveness of the stormwater management system and to develop alternatives to enhance the control of contaminant discharge to the swale and wetland area. The report titled Evaluation of Alternatives for Minimizing Off-Site Transport of Contaminated Sediment from the Stormwater Management System (Watermark, 2014) included evaluation of the following five alternatives to effectively control contaminant discharge from the buoy storage area:

1. Remove contaminated soil from the buoy storage area and replace with clean fill;

2. Pave the remaining unpaved areas of the buoy storage area;

3. Expand the upstream detention system;

4. Install upstream filtration; and

5. Install downstream filtration.

Upon consideration of each alternative, the USCG determined that removal of contaminated soil in the buoy storage area and replacement with clean fill represented a permanent solution to the contaminant migration issue. The decision to conduct a soil removal action for the buoy storage area and drainage swale was based on an increasing trend in metals concentrations in a swale and wetland area which suggested that the stormwater management system was not containing the contaminants known to exist in surface soils in the buoy storage area. This study which was published in 2013 also contained alternatives to control the contaminant discharge to the swale and wetland area.

The USCG produced an updated Engineering Evaluation/Cost Analysis (EE/CA) in February 2016 which provided a comparative analysis of the actions detailed in the 2014 Report. The EE/CA recommended Alternative 1, the removal of contaminated soil from the buoy storage area and replacement with clean fill. A Removal Action Memorandum was prepared in April 2016 to support this determination.

From December 2016 to February 2017, USCG performed a removal action to excavate subsurface soils from with the current IPDSW fence line, drainage swale, and wetland. Over 4,125 cubic yards of soil was excavated and disposed of at a licensed facility. No contaminated soil with metals exceeding the following clean-up criteria remain on the current IPDSW following this removal effort.

The cleanup goals for the soil remediation project were:

• Arsenic 20 milligrams per kilogram (mg/kg)

• Chromium 16 mg/kg

• Copper 1,020 mg/kg

• Lead 200 mg/kg

• Nickel 230 mg/kg

• Zinc 738 mg/kg

The Final Remedial Action Completion Report documented the post-excavation soil sampling and analysis and that the soil remaining at the site meets the site cleanup criteria.

An Explanation of Significant Differences (ESD) for the USCG Buoy Depot was finalized on September 27, 2017. The ESD documented no further action for the buoy storage area (AOC 3) of the USCG Buoy Depot because soil removal actions conducted from December 2016 to February 2017 achieved cleanup levels allowing for unlimited use and unrestricted exposure. In addition, the ESD eliminated the future need of land use controls, performing long-term monitoring, and conducting five-year reviews.

Community Involvement

USCG and EPA have kept the community and other interested parties informed throughout cleanup of the site. Notice of this proposal will be placed in the local newspaper, the Patriot Ledger. While the levels of community concern and involvement have been high for the South Weymouth Naval Air Station as a whole, especially with regard to redevelopment, levels of community concern have been low for Buoy Depot.

Determination That the Criteria for Deletion Have Been Met

The NCP specifies that EPA may delete a site from the NPL if: All appropriate Fund-financed response under CERCLA has been implemented, and no further response action by responsible parties is appropriate; as required by 40 CFR 300.425(e)(1)(ii). This criteria was met, as described, for the partial deletion proposed at the USCG Buoy Depot Operable Unit from the South Weymouth NAS Superfund Site. A Remedial Action Completion Report was issued on October 16, 2017 to document the completion of the Remedial Action activities for the area subject to this partial de-listing. EPA, with the concurrence of the Commonwealth of Massachusetts through MassDEP by a letter dated April 19, 2019, believes these criteria for deletion have been satisfied. Therefore, EPA is proposing the deletion of USCG Buoy Depot operable unit (OU10) from the South Weymouth NAS Superfund Site. All of the completion requirements for the property proposed for deletion at the site have been met.

• The implemented remedies achieve the degree of cleanup or protection specified in the ROD and ESD for the area proposed for deletion.

• The selected remedial and removal action objectives and associated cleanup levels for the areas proposed for deletion are consistent with agency policy and guidance.

• No further Superfund response in the areas proposed for deletion are needed to protect human health and the environment.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Dated: June 18, 2019.
Deborah A. Szaro,
Acting Regional Administrator, Region 1.

[FR Doc. 2019-14018 Filed 6-28-19; 8:45 am]

BILLING CODE 6560-50-P